DEPARTMENT OF TRANSPORTATION

Office of the Secretary of Transportation

49 CFR Part 1

[Docket No. OST-1999-6189]

RIN 9991-AA50

Organization and Delegation of Powers and Duties

AGENCY: Office of the Secretary of Transportation (OST), DOT.

ACTION: Final rule.

SUMMARY: This amendment delegates various authorities vested in the Secretary of Transportation (Secretary) by the “Safe, Accountable, Flexible, Efficient Transportation Equity Act: A Legacy for Users” or “SAFETEA-LU” (Pub. L. 109-59; August 10, 2005) and other laws to the Research and Innovative Technology Administrator, the Federal Highway Administrator, the Federal Railroad Administrator, the National Traffic Highway Safety Administrator, the Federal Transit Administrator, the Pipeline and Hazardous Materials Safety Administrator, the Federal Motor Carrier Safety Administrator, and the Under Secretary for Transportation Policy.

DATES: Effective Date: May 31, 2006.

FOR FURTHER INFORMATION CONTACT: Karen Starring, Attorney Advisor, Office of General Counsel, Department of Transportation, 400 7th St., SW., Room 10424, Washington, DC 20590-0001; Telephone (202)366-9314.

SUPPLEMENTARY INFORMATION:

Background

On August 10, 2005, the “Safe, Accountable, Flexible, Efficient Transportation Equity Act: A Legacy for Users” or “SAFETEA-LU”, Public Law 109-59, was signed into law. Title 49 of the Code of Federal Regulations (CFR) section 1.4(f) is amended to reflect SAFETEA-LU nomenclature for “mass transit” which is now “public transportation.”

49 CFR 1.23 defines the spheres of primary responsibility of the Secretary, Deputy Secretary, Assistant Secretaries, and specific Department level offices. As a result of SAFETEA-LU, the Department will add a Deputy Assistant Secretary for Tribal Government Affairs. This rulemaking defines the sphere of primary responsibility for the Deputy Assistant Secretary for Tribal Government Affairs.

49 CFR 1.45(b) permits the Administrators to redelegate authority the Secretary delegates to them. However, inadvertently, section 1.45(b) failed to specifically grant this authority to the Federal Motor Carrier Safety Administrator. While the Federal Motor Carrier Safety Administrator clearly has this authority as a matter of general administrative law, the Department is seizing this opportunity to correct this inadvertent error. In addition, please note that prior actions taken by subordinate FMCSA officials are considered valid despite the lack of specific redelegation language.

49 CFR 1.46 delegates to the Administrator of the Research and Innovative Technology Administration (RITA) the authority to carry out various functions and activities related to the mission of the agency vested in or delegated to the Secretary. The Secretary has determined that certain authority vested in the Secretary under SAFETEA-LU should be delegated to the Research and Innovative Technology Administrator. This rulemaking revises section 1.46 to reflect these delegations.

49 CFR 1.48 delegates to the Administrator of the Federal Highway Administration (FHWA) the authority to carry out various functions and activities related to the mission of the agency vested in or delegated to the Secretary. The Secretary has determined that the authority vested in the Secretary under SAFETEA-LU concerning the authorization of funds for Federal-aid highways, Federal lands highways, and highway safety programs, and other matters should be delegated to the Federal Highway Administrator. This rulemaking adds subsection (c)(24) to section 1.48 to reflect these delegations. In addition, the remainder of section 1.48 is amended to reflect current authority and citations and to remove expired authorities.

49 CFR 1.49 delegates to the Administrator of the Federal Railroad Administration (FRA) the authority to carry out various functions and activities related to the mission of the agency vested or delegated to the Secretary. The Secretary has determined that certain authority vested in the Secretary under SAFETEA-LU including the authorization of funds for capital grant programs and other matters related to railroad projects, programs, and studies should be delegated to the Federal Railroad Administrator. This rulemaking revises subsection (ee) and adds subsections (mm) and (nn) to section 1.49 to reflect these delegations.

49 CFR 1.50 delegates to the Administrator of the National Highway Traffic Safety Administration (NHTSA) the authority to carry out various functions and activities related to the mission of the agency vested in or delegated to the Secretary. The Secretary has determined that certain authority vested in the Secretary under SAFETEA-LU concerning highway safety, motor vehicle safety, and other matters should be delegated to the National Highway Traffic Safety Administrator. This rulemaking adds subsection (p) to section 1.50 to reflect these delegations.

49 CFR 1.51 delegates to the Administrator of the Federal Transit Administration (FTA) the authority to carry out various functions and activities related to the mission of the agency vested in or delegated to the Secretary. The Secretary has determined that the authority vested in the Secretary under SAFETEA-LU concerning public transportation should be delegated to the Federal Transit Administrator. This rulemaking revises and amends section 1.51 to reflect these delegations. In addition, other paragraphs of section 1.51 are amended to reflect current authority and citations and to remove expired authorities.

49 CFR 1.53 delegates to the Administrator of the Pipeline and Hazardous Materials Safety Administration (PHMSA) the authority to carry out various functions and activities related to the mission of the agency vested in or delegated to the Secretary. The Secretary has determined that the authority vested in the Secretary under SAFETEA-LU concerning the transportation and inspection of hazardous materials should be delegated to the Pipeline and Hazardous Materials Safety Administrator. This rulemaking revises subsection (b)(1) of section 1.53 to reflect these delegations.

49 CFR 1.73 delegates to the Administrator of the Federal Motor Carrier Safety Administration (FMCSA) the authority to carry out various functions and activities related to the mission of the agency vested in or delegated to the Secretary. The Secretary has determined that the authority vested in the Secretary under Title IV of SAFETEA-LU, the “Motor Carrier Safety Reauthorization Act of 2005”, 49 U.S.C. 30101, should be delegated to the Federal Motor Carrier Safety Administrator. This rulemaking revises and amends section 1.73 to reflect these delegations.

49 CFR 1.74 delegates to the Under Secretary for Transportation Policy the authority to carry out various functions and activities related to the mission of the Office of the Under Secretary for Transportation Policy vested in or delegated to the Secretary. The Secretary has determined that the authority vested in the Secretary under SAFETEA-LU concerning the tax-exempt financing of highway projects and rail-truck facilities should be delegated to the Under Secretary for Transportation Policy. This rulemaking revises and amends section 1.74 to reflect this delegation.

Since these amendments relate to departmental management, organization, procedure, and practice, notice and comment are unnecessary under 5 U.S.C. 553(b). Further, since the amendment expedites the Department's ability to meet the statutory intent of the applicable laws and regulations covered by this delegation, the Secretary finds good cause under 5 U.S.C. 553(d)(3) for the final rule to be effective on the date of publication in the Federal Register.

Regulatory Analysis and Notices

A. Executive Order 12866 and DOT Regulatory Policies and Procedures

The final rule is not considered a significant regulatory action under Executive Order 12866 and the Regulatory Policies and Procedures of the Department of Transportation (44 FR 11034). There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply delegates authority from one official to another. Therefore, I certify this final rule will not have a significant economic impact on a substantial number of small entities.

E. Paperwork Reduction Act

This final rule contains no information collection requirements under the Paperwork Reduction Act of 1995 (44 U.S.C. 3501-3520).

F. Unfunded Mandates Reform Act

The Department has determined that the requirements of Title II of the Unfunded Mandates Reform Act of 1995 do not apply to this rulemaking.

List of Subjects in 49 CFR Part 1

Authority delegations (Government agencies), Organization and functions (Government agencies).

For the reasons set forth in the preamble, the Office of the Secretary of Transportation amends 49 CFR part 1 as follows:

PART 1—[AMENDED]

1. The authority citation for part 1 is revised to read as follows:

Authority: 49 U.S.C. 322; 28 U.S.C. 2672; 31 U.S.C. 3711(a)(2); Public Law 101-552, 104 Stat. 2736; Public Law 106-159, 113 Stat. 1748; Public Law 107-71, 115 Stat. 597; Public Law 107-295, 116 Stat. 2064; Public Law 107-295, 116 Stat 2065; Public Law 107-296, 116 Stat. 2135; 41 U.S.C. 414; Public Law 108-426, 118 Stat. 2423; Public Law 109-59, 119 Stat. 1144.

2. Revise § 1.4(f) to read as follows:

§ 1.4 General responsibilities.

* * * * *

(f) The Federal Transit Administration. Is responsible for:

(1) Exercising the authority vested in the Secretary for developing comprehensive and coordinated public transportation systems that serve the public.

(2) Administering Federal transportation assistance programs and functions; and

(3) Assuring appropriate liaison and coordination with other Federal agencies, state and local governmental authorities, with respect to the foregoing.

* * * * *

3. Amend § 1.23 as follows:

a. Redesignate paragraphs (h) through (q) as paragraphs (i) through (r), respectively; and

b. Add new paragraph (h) to read as follows:

§ 1.23 Spheres of primary responsibility.

* * * * *

(h) Deputy Assistant Secretary for Tribal Government Affairs. Plan, coordinate and implement the Department's policies and programs with respect to Indian tribes and tribal organizations. Coordinate intra-Departmental tribal transportation programs and activities. Serve as the Department's primary point of contact in relationships with public and private organizations and groups related to Indian tribes and tribal organizations. Participate in any negotiated rulemaking relating to, or having an impact on, projects, programs, or funding associated with the tribal transportation program.

* * * * *

4. Revise § 1.45(b) to read as follows:

§ 1.45 Delegations to all Administrators.

* * * * *

(b) Except as otherwise specifically provided, each official to whom authority is granted by § 1.45 through 1.53, 1.66, 1.68, and 1.73 may redelegate and authorize successive redelegations of that authority within the organization under that official's jurisdiction.

* * * * *

5. Revise § 1.46(c), (d), (e), (i), (l) and (m) to read as follows:

§ 1.46 Delegations to the Administrator of the Research and Innovative Technology Administration.

* * * * *

(c) Advanced vehicle technology. Carry out the functions vested in the Secretary by section 5111 of the Transportation Equity Act for the 21st Century (49 U.S.C. 5506), as extended by the Surface Transportation Extension Act of 2004, Part V, Public Law 108-310, September 30, 2004, 118 Stat. 1144, and section 5513(j) of the Safe, Accountable, Flexible, Efficient Transportation Equity Act: A Legacy for Users, Title V, Subtitle E, Public Law 109-59, August 10, 2005, 119 Stat. 1144.

(d) Remote sensing technology. Carry out the functions vested in the Secretary by section 5113 of the Transportation Equity Act for the 21st Century (23 U.S.C. 502 Note), as extended by the Surface Transportation Extension Act of 2004, Part V, Public Law 108-310, September 30, 2004, 118 Stat. 1144, and section 5506 of the Safe, Accountable, Flexible, Efficient Transportation Equity Act: A Legacy for Users, Title V, Subtitle E, Public Law 109-59, August 10, 2005, 119 Stat. 1144.

(e) University transportation research. Carry out the functions vested in the Secretary by section 5110 of the Transportation Equity Act for the 21st Century (49 U.S.C. 5505), as extended by the Surface Transportation Extension Act of 2004, Part V, Public Law 108-310, September 30, 2004, 118 Stat. 1144, and sections 5401 and 5402 of the Safe, Accountable, Flexible, Efficient Transportation Equity Act: A Legacy for Users, Title V, Subtitle D, Public Law 109-59, August 10, 2005, 119 Stat. 1144.

* * * * *

(i) Intermodalism. Carry out the functions vested in the Secretary by 49 U.S.C. 5503(d) and Section 4149 of the Safe, Accountable, Flexible, Efficient Transportation Equity Act: A Legacy for Users, Title IV, Subtitle A and Section 5209, Title V, Subtitle B, Public Law 109-59, August 10, 2005, 119 Stat. 1144.

* * * * *

(l) Research grants. Carry out the functions vested in the Secretary by section 5513(c), (d), (g), (h), (i), (l), and (m) (as (m) relates to (c), (d), (g), (h), (i), (j), and (l)) of the Safe, Accountable, Flexible, Efficient Transportation Equity Act: A Legacy for Users, Title V, Subtitle E, Public Law 109-59, August 10, 2005, 119 Stat. 1144.

(m) Biobased transportation research. Carry out the functions vested in the Secretary by section 5201(m) of the Safe, Accountable, Flexible, Efficient Transportation Equity Act: A Legacy for Users, Title V, Subtitle B, Public Law 109-59, August 10, 2005, 119 Stat. 1144.

* * * * *

6. Revise § 1.48 to read as follows:

§ 1.48 Delegations to Federal Highway Administrator.

(a) Unless otherwise provided, the Federal Highway Administrator may further delegate authority provided under this section.

(b) The Federal Highway Administrator is delegated authority to administer the following provisions of title 23, Highways, U.S.C.:

(1) Chapter 1, Federal-Aid Highways, except for sections 142 (as it relates to matters within the primary responsibility of the Federal Transit Administrator), 153, 154, 158, 159, 161, and 164.

(2) Chapter 2, Other Highways.

(3) Chapter 3, General Provisions, except for section 322.

(4) Section 409 of chapter 4, Highway Safety.

(5) Chapter 5, Research, Technology, and Education, except for sections 508 and 509.

(6) Chapter 6, Infrastructure Finance.

(c) The Federal Highway Administrator is delegated authority to administer the following laws relating generally to highways:

(1) Section 502(c) of the General Bridge Act of 1946, as amended (60 Stat. 847, 33 U.S.C. 525(c)).

(2) Reorganization Plan No. 7 of 1949 (63 Stat. 1070).

(3) The Federal-Aid Highway Act of 1954, as amended (Pub. L. 83-350, 68 Stat. 70).

(4) The Federal-Aid Highway Act of 1956, as amended (Pub. L. 84-627, 70 Stat. 374).

(5) The Highway Revenue Act of 1956, as amended (Pub. L. 84-627, 70 Stat. 374, 387, 23 U.S.C.A. 120 note).

(6) The Alaska Omnibus Act, as amended (Pub. L. 86-70, 73 Stat. 141, 48 U.S.C.A. 21 note.).

(7) The Act of September 26, 1961, as amended (Pub. L. 87-307, 75 Stat. 670).

(8) The Act of April 27, 1962 (Pub. L. 87-441, 76 Stat. 59).

(9) The Federal-Aid Highway Act of 1962, as amended (Pub. L. 87-866, 76 Stat. 1145).

(10) The Joint Resolution of August 28, 1965, as amended (Pub. L. 89-139, 79 Stat. 578, 23 U.S.C.A. 101 et seq., notes).

(11) The Highway Beautification Act of 1965, as amended (Pub. L. 89-285, 79 Stat. 1028, 23 U.S.C.A. 131 et seq., notes).

(12) The Federal-Aid Highway Act of 1966, as amended (Pub. L. 889-574, 80 Stat. 766).

(13) The Federal-Aid Highway Act of 1968, as amended (Pub. L. 90-495, 82 Stat. 815).

(14) The Federal-Aid Highway Act of 1970, as amended (except section 118) (Pub. L. 91-605, 84 Stat. 1713).

(15) Sections 103, 104, 111(b), 128(b), 131, 135, 136, 141, 147, 149, 154, 158 through 161, 163, 203, 206, 401, and 402 of the Federal-Aid Highway Act of 1973, as amended (Pub. L. 93-87, 87 Stat. 250; Pub. L. 93-643, 88 Stat. 2281).

(16) Sections 102(b) (except subparagraph (2)) and (c); 105 (b)(1) and (c); 141; 146; 147; and 152 of the Federal-Aid Highway Act of 1976 (Pub. L. 94-280, 90 Stat. 425).

(17) Sections 105, 107(c) through (e), 123(a) and (b), 124(c), 126(d) through (g), 138(c), 140, 142 through 145, 147 through 154, 167, and 171, title IV, as amended (as it relates to matters within the primary responsibility of the Federal Highway Administrator), and sections 502-504 of title V of the Surface Transportation Assistance Act of 1978 (Pub. L. 95-599, 92 Stat. 2689).

(18) The Federal-Aid Highway Act of 1982 (Pub. L. 97-327, 96 Stat. 1611), except section 6 as it relates to matters within the primary responsibility of the Federal Transit Administrator.

(19) The Surface Transportation Assistance Act of 1982, as amended, (Pub. L. 97-424, 96 Stat. 2097) except,

(i) Sections 165 and 531 as they relate to matters within the primary responsibility of the Federal Transit Administrator;

(ii) Sections 105(f), 413; 414(b) (2); 421, 426, and title III; and

(iii) Section 414(b)(1), unless with the concurrence of the National Highway Traffic Safety Administrator.

(20) Sections 103(e), 105(a) through (g), 106(a), and (b), 110(b), 114(d), 117(f), 120(c) and (d), 123(g) and (i), 133(f), 134, 136, 137, 139 through 145, 146(b), 147(c), 149(a) through (f), (h), (i), (k), 151 through 157, 164, and 208 of the Surface Transportation and Uniform Relocation Assistance Act of 1987 (Pub. L. 100-17, 101 Stat. 132).

(21) Sections 1002(c) and (e), 1003(c), 1004, 1006(h), 1009(c), 1012(b) and (d) through (f), 1013(c), 1014(c), 1015, 1016(g), 1017(c), 1021(c) and (d), 1022(c), 1023(f) through (g), 1029(c), (f), and (g), 1032(d) and (e), 1038 through 1042, 1044, 1045, 1046(d), 1047, 1049, 1050, 1051, 1054, 1057 through 1063, 1065, 1067, 1069, 1072, 1073, 1074, 1076, 1077, 1086, 1088 through 1092, 1097, 1099 through 1108, 6012, and 6014 through 6016 of the Intermodal Surface Transportation Efficiency Act of 1991 (Pub. L. 102-240, 105 Stat. 1914).

(22) Sections 201 through 205, 327 through 336, 339, 340, 349, 352, 353, and 408 of the National Highway System Designation Act of 1995 (Pub. L. 104-59, 109 Stat. 568).

(23) Sections 1101(a), 1102, 1103(m) and (n), 1106(a) and (d), 1107(c), 1108(f) and (g), 1110(d)(2) and (e), 1112(c) and (e), 1117(a), (b), and (d), 1118, 1119, 1202(b) and (e), 1204(i), 1207(c), 1210, 1211(i) and (l), 1212 (b), (e) through (j), (l), (m), (o), and (q) through (t), 1213(c), and (f) through (j), 1214, 1215, 1216, 1217, 1220, 1223, 1224, 1225, 1307(d) through (f), 1308, 1309, 1311, 1402, 1511, 5001, 5112, 5116 through 5118, and 5203 through 5212 of the Transportation Equity Act for the 21st Century (Pub. L. 105-178, 112 Stat. 107).

(24) Sections 1102, 1105(f), 1109(f), 1111(b)(4), 1112, 1115(c), 1116(a) and (b), 1117, 1119(n), 1120(c), 1201, 1301, 1302, 1303, 1304, 1305, 1306, 1308, 1310, 1401(e), 1402, 1403, 1404, 1405, 1408, 1409(a) and (b), 1410, 1411, 1502, 1603, 1604, 1801 (d), 1803, 1804, 1805, 1807, 1808(g) through (k), 1907, 1908, 1910, 1911, 1914, 1916, 1917, 1918, 1919, 1923, 1924, 1925, 1927, 1928, 1934, 1935, 1936, 1937, 1939, 1940, 1941, 1943, 1944, 1945, 1948, 1949, 1950, 1952, 1957, 1958, 1959, 1961, 1962, 1964, 2003(e), 4112, 4141, 4404 (as it relates to matters within the primary responsibility of the Federal Highway Administrator), 5101(b), 5202(b)(3)(B), (c), and (d), 5203(e) and (f), 5204(g) and (i), 5304, 5305, 5306, 5307, 5308, 5309 (except (c)(4)), 5501, 5502, 5504, 5507, 5508, 5511, 5512, 5513(b), (f), (k), and (m) (as (m) relates to (b), (f), and (k)), 5514, 6001(b), 6002(b), 6009(b) and (c) (as they relate to matters within the primary responsibility of the Federal Highway Administrator), 6010 (as it relates to matters within the primary responsibility of the Federal Highway Administrator), 6017, 6018, 10210, and 10212 of the Safe, Accountable, Flexible, Efficient Transportation Equity Act: A Legacy for Users (Pub. L. 109-59, 119 Stat. 1144).

(d) The Federal Highway Administrator is delegated authority to:

(1) Carry out the functions vested in the Secretary of Transportation by section 601 of the Pipeline Safety Act of 1992 (Pub. L. 102-508, 106 Stat. 3289) relating to construction of the Page Avenue Extension Project in Missouri.

(2) Carry out the functions of the Secretary under the Appalachian Regional Development Act of 1965 (Pub. L. 89-4, 79 Stat. 5, 40 U.S.C. Subtitle IV) except section 208.

(3) Carry out the Act of September 21, 1966, Public Law 89-599, relating to certain approvals concerned with a compact between the States of Missouri and Kansas.

(4) Carry out the law relating to the Chamizal border highway (Pub. L. 89-795, 80 Stat. 1477).

(5) Carry out the Highway Safety Act of 1966, as amended (Pub. L. 89-564, 80 Stat. 731) and chapter 4 of title 23 U.S.C. as amended by section 207 of the Surface Transportation Assistance Act of 1978 for highway safety programs, research and development relating to highway design, construction and maintenance, traffic control devices, identification and surveillance of accident locations, and highway-related aspects of pedestrian and bicycle safety.

(6) Exercise the authority vested in the Secretary by 49 U.S.C. 20134(a) with respect to the laws administered by the Federal Highway Administrator pertaining to highway safety and highway construction.

(7) Carry out the functions vested in the Secretary by section 5 (as it relates to bridges, other than railroad bridges, not over navigable waters), and section 8(a) (as it relates to all bridges other than railroad bridges) of the International Bridge Act of 1972 (Pub. L. 92-434, 86 Stat. 731).

(8) Exercise the authority vested in the Secretary by sections 101, 118, 120(b), 123 and 124 of the Federal-Aid Highway Amendments of 1974 (Pub. L. 93-643, January 4, 1975, 88 Stat. 2281).

(9) Carry out the functions vested in the Secretary by section 118 of the National Visitor Center Facilities Act of 1968 (Pub. L. 90-264, 82 Stat. 43), as added by the Union Station Redevelopment Act of 1981 (Pub. L. 97-125; 95 Stat. 1672), with respect to the completion of the parking facility and associated ramps at Union Station in Washington, DC (40 U.S.C. 818).

(10) Carry out the functions vested in the Secretary by Public Law 98-229, 98 Stat. 55, insofar as it relates to apportioning certain funds for construction of the Interstate Highway System in Fiscal Year 1985, apportioning certain funds for Interstate substitute highway projects, and increasing amounts available for emergency highway relief.

(11) Prescribe regulations, as necessary, at parts 24 and 25 of this title, to implement Public Law 91-646, 84 Stat. 1894, and any amendments thereto, as appropriate, in coordination with the Assistant Secretary for Transportation Policy, and carry out all other functions vested in the Secretary by the Uniform Relocation Assistance and Real Property Acquisition Policies Act of 1970, Public Law 91-646, 84 Stat. 1894, and any amendments thereto.

(12) Carry out the functions vested in the Secretary of Transportation by section 114 of Part C of the Paperwork Reduction Reauthorization Act of 1986 (contained in the Act Making Continuing Appropriations for Fiscal Year 1987 and for Other Purposes, Public Law 99-591, 100 Stat. 3341, 2241-349), relating to construction of Interstate Highway H-3 in Hawaii.

(13) Carry out all of the functions vested in the Secretary under section 324 of the Fiscal Year 1986 Department of Transportation Appropriations Act (Pub. L. 99-190, 99 Stat. 1288), notwithstanding the reservation of authority under Sec. 1.44(j) of this part.

(14) Carry out the functions vested in the Secretary of Transportation by section 505 of the Railroad Revitalization and Regulatory Reform Act of 1976, as amended, (Pub. L. 94-210, 90 Stat. 31) relating to the Alameda Corridor Project in consultation with the Federal Railroad Administrator.

(15) Carry out the function of acting as the lead DOT agency in matters relating to the National Environmental Policy Act pertinent to the authority vested in the Secretary to establish, operate, and manage the Nationwide Differential Global Positioning System (NDGPS) by section 346 of the Department of Transportation and Related Agencies Appropriations Act, 1998 (Pub. L. 105-66, 111 Stat. 1425).

(16) Exercise the responsibilities of the Secretary under 49 U.S.C. 303 as it relates to matters within the primary responsibility of the Federal Highway Administrator.

(17) Exercise the responsibilities of the Secretary under the National Environmental Policy Act of 1969 (42 U.S.C. 4321 et seq.) and other Federal laws related to programs, projects, and activities administered by the Federal Highway Administration.

(18) Exercise the responsibilities of the Secretary under section 176(c) of the Clean Air Act (42 U.S.C. 7506(c)), as amended by section 6011 of the Safe, Accountable, Flexible, Efficient Transportation Equity Act: A Legacy for Users (Pub. L. 109-59, 119 Stat. 1144), as it relates to matters within the primary responsibility of the Federal Highway Administrator.

(19) Exercise the responsibilities of the Secretary under 49 U.S.C. 309.

7. Amend § 1.49 as follows:

a. Revise paragraph (ee); and

b. Add paragraphs (mm) and (nn) to read as follows:

§ 1.49 Delegations to Federal Railroad Administrator.

* * * * *

(ee) Carry out the functions vested in the Secretary by section 5701 of title 49 of the United States Code, with respect to transportation by railroad.

* * * * *

(mm) Carry out the functions and exercise the authority vested in the Secretary by sections 1307, 1946, 9004, 9006, and 9007 of the Safe, Accountable, Flexible, Efficient Transportation Equity Act: A Legacy for Users (Pub. L. No. 109-59, 119 Stat. 1144) as they relate to deployment of magnetic levitation transportation projects, the Gateway Rural Improvement Pilot Program, a study of the impact of public safety of train travel in communities without grade separation, capital grants to the Alaska Railroad, and a study of rail transportation and regulation.

(nn) Carry out the functions and exercise the authority vested in the Secretary by section 20154 of title 49, United States Code relating to capital grants for rail line relocation projects.

8. In § 1.50, add paragraph (p) to read as follows:

§ 1.50 Delegations to the National Highway Traffic Safety Administrator.

* * * * *

(p) Carry out the functions and exercise the authority vested in the Secretary under the “Safe, Accountable, Flexible, Efficient Transportation Equity Act: A Legacy for Users” or “SAFETEA-LU” (Pub. L. 109-59; August 10, 2005), as it relates to:

(1) Section 1906, the grant program to prohibit racial profiling;

(2) Section 2001(d), transfers;

(3) Section 2003(c), on-scene motor vehicle collision causation;

(4) Section 2003(d), research on distracted, inattentive, and fatigued drivers;

(5) Section 2003(f), refusal of intoxication testing;

(6) Section 2003(g), impaired motorcycle driving;

(7) Section 2003(h), reducing impaired driving recidivism;

(8) Section 2009(f), annual evaluation, in regard to high visibility enforcement program;

(9) Section 2010, motorcyclist safety;

(10) Section 2011, child safety and child booster seat incentive grants;

(11) Section 2012, safety data;

(12) Section 2013, drug-impaired driving enforcement;

(13) Section 2014, first responder vehicle safety program;

(14) Section 2015, driver performance study;

(15) Section 2016, rural state emergency medical services optimization pilot program;

(16) Section 2017, older driver safety; law enforcement training;

(17) Section 5513(e), automobile accident injury research;

(18) Section 5513(m) as it relates to section 513(e);

(19) Section 10202, emergency medical services;

(20) Section 10302, side-impact crash protection rulemaking;

(21) Section 10303, tire research;

(22) Section 10305(b), publication of nontraffic incident data collection;

(23) Section 10306, study of safety belt use technologies;

(24) Section 10307(b), regulations, in regard to safety labeling requirements;

(25) Section 10308, power window switches; and

(26) Section 10309(a), testing, in regard to 15-passenger van safety.

9. Amend § 1.51 as follows:

a. Remove paragraphs (f), (g), (h), (j), (k), (l), (m), and (n);

b. Redesignate paragraph (i) as paragraph (f);

c. Revise paragraphs (a) and (b); and

d. Add new paragraphs (g), (h), and (i) to read as follows:

§ 1.51 Delegations to Federal Transit Administrator.

* * * * *

(a) The Urban Mass Transportation Act of 1964, as amended (78 Stat. 302, 49 U.S.C. 1601 et seq.).

(b) Section 1 of Reorganization Plan No. 2 of 1968 (5 U.S.C. app. 1).

* * * * *

(f) Title II of the National Mass Transportation Assistance Act of 1974 (Pub. L. 93-503, November 26, 1974), except sections 204 and 205.

(g) Title 49 United States Code, chapter 53 as amended by the Safe, Accountable, Flexible, Efficient Transportation Equity Act: A Legacy for Users (SAFETEA-LU) (Pub. L. 109-59, August 10, 2005).

(h) 49 U.S.C. 303 as it involves public (mass) transportation projects.

(i) Sections 3040, 3041, 3044, 3045, 3046, 3048, 3049, and 3050 of the Safe, Accountable, Flexible, Efficient Transportation Equity Act: A Legacy for Users (Pub. L. 109-59, 119 Stat.1144); sections 6009 (b) and (c) and 6010 of the Safe, Accountable, Flexible, Efficient Transportation Equity Act: A Legacy for Users as they relate to public (mass) transit projects; and the following provisions as amended by SAFETEA-LU and as related to public (mass) transportation projects:

(1) 23 U.S.C. 139, 326, and 502(h); and

(2) 42 U.S.C. 7506(c).

10. Amend § 1.53 as follows:

a. Remove paragraph (d);

b. Redesignate paragraph (e) as paragraph (d); and

c. Revise paragraph (b) introductory text and (b)(1) to read as follows:

§ 1.53 Delegations to the Administrator of the Pipeline and Hazardous Materials Safety Administration.

* * * * *

(b) * * *

(1) Carry out the functions vested in the Secretary by 49 U.S.C. 5121(a), (b), (c), (d) and (e), 5122, 5123, and 5124 relating to investigations, records, inspections, emergency orders, penalties, and specific relief, with particular emphasis on the shipment of hazardous materials and the manufacture, fabrication, marking, maintenance, reconditioning, repair or test of multi-modal containers that are represented, marked, certified, or sold for use in the transportation of hazardous materials.

* * * * *

11. Amend § 1.73 as follows:

a. Revise paragraph (a)(7), (8), and (9);

b. Revise paragraphs (g) and (h); and

c. Add paragraphs (q) through (y) to read as follows:

§ 1.73 Delegation to the Administrator of the Federal Motor Carrier Safety Administration.

* * * * *

(a) * * *

(7) Chapter 145, sections 14501, 14502, 14504 and 14504a relating to Federal-State relations;

(8) Chapter 147, sections 14701 through 14708, 14710, and 14711, relating to enforcement remedies, investigations and motor carrier liability; and

(9) Chapter 149, sections 14901 through 14913, and 14915, relating to enforcement remedies, investigations and motor carrier liability.

* * * * *

(g) Carry out the functions vested in the Secretary by subchapters I, III, and IV of chapter 311, title 49, U.S.C., relating to commercial motor vehicle programs, safety regulation, and international activities, except that the authority to promulgate safety standards for commercial motor vehicles and equipment subsequent to initial manufacture is limited to standards that are not based upon and similar to a Federal Motor Vehicle Safety Standard promulgated under chapter 301 of title 49, U.S.C.

(h) Carry out the functions vested in the Secretary by 49 U.S.C. 5701 relating to food transportation inspections of commercial motor vehicles; and 5113 and 31144 relating to safety fitness of owners and operators.

* * * * *

(q) Carry out the functions vested in the Secretary by Public Law 109-59, 119 Stat. 1717, section 4105(b)(1) relating to the study concerning predatory tow truck operations.

(r) Carry out the functions vested in the Secretary by Public Law 109-59, 119 Stat. 1738, section 4126 relating to the commercial vehicle information systems and networks program.

(s) Carry out the functions vested in the Secretary by Public Law 109-59, 119 Stat. 1742, section 4128 relating to grants under the safety data improvement program.

(t) Carry out the functions vested in the Secretary by Public Law 109-59, 119 Stat. 1744, section 4134 relating to the grant program for persons to train operators of commercial motor vehicles.

(u) Carry out the functions vested in the Secretary by Public Law 109-59, 119 Stat. 1744, section 4135 relating to the task force concerning commercial drivers license program.

(v) Carry out the functions vested in the Secretary by Public Law 109-59, 119 Stat. 1744, section 4139(a) and (b)(1) relating to the training and outreach to state personnel and a review concerning Canadian and Mexican commercial motor vehicles respectively.

(w) Carry out the functions vested in the Secretary by Public Law 109-59, 119 Stat. 1759, section 4213 relating to the establishment of a working group for development of practices and procedures to enhance Federal-State relations.

(x) Carry out the functions vested in the Secretary by Public Law 109-59, 119 Stat. 1821, section 5503 relating to the motor carrier efficiency study.

(y) Carry out the functions vested in the Secretary by Public Law 109-59, 119 Stat. 1829, sections 5513(a) and (m), relating to the research grant for a thermal imaging inspection system demonstration project.

12. Revise § 1.74 to read as follows:

§ 1.74 Delegations to the Under Secretary for Transportation Policy.

The Under Secretary for Transportation Policy is delegated authority:

(a) Under the Federal hazardous materials transportation law, 49 U.S.C. 5101 et seq., to:

(1) Serve as the principal adviser to the Secretary on all intermodal and cross-modal hazardous materials matters;

(2) Act as the focal point for review of hazardous materials policies, priorities, and objectives;

(3) Provide oversight for planning and budgeting strategies for all departmental hazardous materials activities;

(4) Resolve disputes among Operating Administrations on hazardous materials issues;

(5) Provide external reviews and continual monitoring of all departmental hazardous materials activities;

(6) In coordination with the Assistant Secretary for Budget and Programs, direct that the Operating Administrations apply resources to specific cross-modal initiatives;

(7) Coordinate DOT-wide hazardous materials outreach and data activities; and

(8) Address other regulatory and programmatic cross-modal issues related to hazardous materials as warranted.

(b) Carry out the functions and exercise the authority vested in the Secretary by section 11143 of Public Law 109-59, Stat. 1144, titled “Safe, Accountable, Flexible, Efficient Transportation Equity Act: A Legacy for Users” to manage the day-to-day activities associated with implementation of section 11143 regarding tax-exempt financing of highway projects and rail-truck facilities. The Under Secretary of Transportation for Policy may further delegate this authority.

Issued this 16th day of May, 2006, at Washington, DC.
Norman Y. Mineta,
Secretary of Transportation.

[FR Doc. 06-4854 Filed 5-30-06; 8:45 am]

BILLING CODE 4910-62-P